DEPARTMENT OF COMMERCE

International Trade Administration

[C-401-804]

Cut-to-Length Carbon Steel Plate From Sweden; Final Results of Expedited Sunset Review of Countervailing Duty Order

AGENCY: Import Administration, International Trade Administration, Department of Commerce.

ACTION: Notice of final results of expedited sunset review: Cut-to-length carbon steel plate from Sweden.

SUMMARY: On September 1, 1999, the Department of Commerce (“the Department”) initiated a sunset review of the countervailing duty order on cut-to-length carbon steel plate from Sweden (64 FR 47767) pursuant to section 751(c) of the Tariff Act of 1930, as amended (“the Act”). On the basis of a notice of intent to participate and adequate substantive comments filed on behalf of the domestic interested parties, as well as inadequate responses from respondent interested parties, the Department determined to conduct an expedited (120-day) sunset review. Based on our analysis of the comments received, we find that revocation of the countervailing duty order would be likely to lead to continuation or recurrence of a countervailable subsidy at the levels listed below in the section entitled Final Results of the Review.

EFFECTIVE DATE: April 7, 2000.

FOR FURTHER INFORMATION CONTACT: Kathryn B. McCormick or Melissa G. Skinner, Office of Policy for Import Administration, International Trade Administration, U.S. Department of Commerce, 14th Street and Constitution Avenue, NW, Washington, DC 20230; telephone: (202) 482-1930 or (202) 482-1560, respectively.

SUPPLEMENTARY INFORMATION:

The Applicable Statute

Unless otherwise indicated, all citations to the Act are references to the provisions effective January 1, 1995, the effective date of the amendments made to the Act by the Uruguay Round Agreements Act (“URAA”). In addition, unless otherwise indicated, all citations to the Department regulations are to 19 CFR Part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (Sunset Policy Bulletin).

Background

On September 1, 1999, the Department initiated a sunset review of the countervailing duty order on cut-to-length carbon steel plate from Sweden (64 FR 47767), pursuant to section 751(c) of the Act. The Department received a notice of intent to participate on behalf of the Bethlehem Steel Corporation and U.S. Steel Corporation, a unit of USX Corporation (“domestic interested parties”), within the applicable deadline (September 15, 1999) specified in section 351.218(d)(1)(i) of the Sunset Regulations. Domestic interested parties claimed interested-party status under section 771(9)(C) of the Act, as U.S. producers of a domestic like product.

On September 24, 1999, we received a request for an extension to file rebuttal comments from domestic interested parties.¹ Pursuant to 19 CFR 351.302(b), the Department extended the deadline for all participants eligible to file rebuttal comments until October 15, 1999.²

¹ See September 24, 1999, Request for an Extension to File Rebuttal Comments in the Sunset Reviews of Antidumping and Countervailing Duty Orders: A-602-803; A-351-817; C-351-818, A-122-822, A-122-823, A-405-802, A-588-826, A-421-804, A-455-802, A-485-803, C-401-401, C-401-804, C-401-805, from Valerie S. Schindler, Skadden, Arps, Slate, Meagher & Flom LLP, to Jeffrey A. May, Office of Policy.

² See September 30, 1999, Letter from Jeffrey A. May, Director, Office of Policy to Valerie S. Schindler, Skadden, Arps, Slate, Meagher & Flom LLP.

On October 1, 1999, we received a complete substantive response from domestic interested parties, within the 30-day deadline specified in the Sunset Regulations under section 351.218(d)(3)(i). Domestic interested parties assert that they have been involved in this proceeding since its inception throughout the investigation and in the only administrative review (see October 1, 1999, Substantive Response of domestic interested parties at 4).

On September 29, 1999, we received a response from the European Union Delegation of the European Commission (“EC”) expressing its intent to participate in this review as the authority responsible for defending the interest of the Member States of the European Union (“EU”) (see September 29, 1999, Substantive Response of the EU at 3). On September 30, 1999, we received a response from the Government of Sweden (“GOS”) expressing its intent to participate in this review as the government of a country in which the subject merchandise is produced and exported. The GOS notes that it has in the past participated in this proceeding (see September 30, 1999, Substantive Response of the GOS at 2).

The Department did not receive a substantive response from any foreign producer/exporter, of the subject merchandise as defined under 771(9)(A) of the Act. Thus, pursuant to section 351.218(e)(1)(ii)(A) of the Sunset Regulations, the Department determined the EC's and GOS's substantive responses to be inadequate for the purposes of conducting a full review. Consequently, on October 21, 1999, pursuant to 19 CFR 351.218 (e)(1)(ii)(C)(2), the Department determined to conduct an expedited (120-day) sunset review of this order.³

³ See October 20, 1999, Memorandum for Jeffrey A. May, Re: Certain Cut-to-Length Carbon Steel Flat Plate from Sweden: Adequacy of Respondent Interested Party Response to the Notice of Initiation.

In accordance with section 751(c)(5)(C)(v) of the Act, the Department may treat a review as extraordinarily complicated if it is a review of a transition order (i.e., an order in effect on January 1, 1995). This review concerns a transition order within the meaning of section 751(c)(C)(6)(i) of the Act. Accordingly, on December 22, 1999, the Department determined that the sunset review of cut-to-length carbon steel flat plate from Sweden is extraordinarily complicated, and extended the time limit for completion of the final results of this review until not later than March 29, 2000, in accordance with section 751(c)(5)(B) of the Act.⁴

⁴ See Extension of Time Limit for Final Results of Expedited Five-Year Reviews, 64 FR 71726 (December 22, 1999).

Scope of Review

The scope of this order includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated, nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule (“HTS”) under item numbers: 7208.31.0000, 7208.38.0000, 7208.33.1000, 7208.33.5000, 7208.41.0000, 7208.22.0000, 7208.43.0000, 7208.90.0000, 7210.70.3000, 7210.90.9000, 7211.11.0000, 7211.12.0000, 7211.21.0000, 7211.22.0045, 7211.90.0000, 7212.40.1000, 7212.40.5000, and 7212.50.5000 (62 FR 16551, April 7, 1997).

Included in this order are flat-rolled products of non-rectangular cross-section where such cross-section is achieved subsequent to the rolling process (i.e., products which have been “worked after rolling”)—for example, products which have been beveled or rounded at the edges. Excluded from this order is grade X-70 plate. These HTS item numbers are provided for convenience and customs purposes. The written description remains dispositive.

Analysis of Comments Received

All issues raised in substantive responses by parties to this sunset review are addressed in the Issues and Decision Memorandum (“Decision Memo”) from Jeffrey A. May, Director, Office of Policy, Import Administration, to Robert S. LaRussa, Assistant Secretary for Import Administration, dated March 29, 2000, which is hereby adopted by this notice. The issues discussed in the attached Decision Memo include the likelihood of continuation or recurrence of subsidy and the net countervailable subsidy likely to prevail were the order revoked. Parties can find a complete discussion of all issues raised in this review and the corresponding recommendations in this public memorandum which is on file in room B-099, the Central Records Unit, of the main Commerce building.

In addition, a complete version of the Decision Memo can be accessed directly on the Web at www.ita.doc.gov/import_admin/records/frn. The paper copy and electronic version of the Decision Memo are identical in content.

Final Results of Review

We determine that revocation of the countervailing duty order would be likely to lead to continuation or recurrence of the subsidy at the following net countervailable subsidy.

Producer/exporter | Net countervailable subsidy (%)
All Producers/Exporters from Sweden | 4.27

Nature of the Subsidy

In the Sunset Policy Bulletin, the Department states that, consistent with section 752(a)(6) of the Act, the Department will provide to the Commission information concerning the nature of the subsidy, and whether the subsidy is a subsidy described in Article 3 or Article 6.1 of the Subsidies Agreement. Although the programs at issue do not fall within Article 3 of the Subsidies Agreement, some or all of them could be found to be inconsistent with Article 6.1. For example, the net countervailable subsidy may exceed five percent, as measured in accordance with Annex IV of the Subsidies Agreement. The Department, however, has no information with which to make such a calculation; nor do we believe it appropriate to attempt such a calculation in the course of a sunset review. Moreover, we note that, as of January 1, 2000, Article 6.1 has ceased to apply (see Article 31 of the Subsidies Agreement). As such, we are providing the Commission with program descriptions in our Decision Memo.

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing this determination and notice in accordance with sections 751(c), 752, and 777(i) of the Act.

Dated: March 29, 2000.
Joseph A. Spetrini,
Acting Assistant Secretary for Import Administration.

[FR Doc. 00-8691 Filed 4-6-00; 8:45 am]

BILLING CODE 3510-DS-P